DEPARTMENT OF COMMERCE

International Trade Administration

Civil Nuclear Trade Advisory Committee Public Meeting

AGENCY: International Trade Administration, DOC.

ACTION: Notice of Federal Advisory Committee Meeting.

SUMMARY: This notice sets forth the schedule and proposed agenda of the next meeting of the Civil Nuclear Trade Advisory Committee (CINTAC). The members will discuss issues outlined in the following agenda.

DATES: The meeting is scheduled for: Tuesday, July 13, 2010, from 11 a.m. to 4 p.m. Eastern Daylight Time (EDT).

ADDRESSES: The meeting will be held in Room 1414 at the U.S. Department of Commerce, Herbert Clark Hoover Building, 1401 Constitution Ave., NW., Washington, DC 20230.

FOR FURTHER INFORMATION CONTACT: Mr. Frank Caliva, Office of Energy & Environmental Industries, International Trade Administration, Room 4053, 1401 Constitution Ave., NW., Washington, DC 20230. (Phone: 202-482-8245; Fax: 202-482-5665; e-mail: Frank.Caliva@trade.gov).

SUPPLEMENTARY INFORMATION: Background: The CINTAC was established under the discretionary authority of the Secretary of Commerce and in accordance with the Federal Advisory Committee Act (5 U.S.C. App.), in response to an identified need for consensus advice from U.S. industry to the U.S. Government regarding the development and administration of programs to expand United States exports of civil nuclear goods and services in accordance with applicable United States regulations, including advice on how U.S. civil nuclear goods and services export policies, programs, and activities will affect the U.S. civil nuclear industry's competitiveness and ability to participate in the international market.

Topics to be considered: The agenda for the July 13, 2010, CINTAC meeting is as follows:

1. Welcome

2. DOC briefing on current status of Civil Nuclear Trade Initiative

3. Update on civil nuclear trade policy with India

4. Discussion of DOC small modular reactor report

5. Discussion of subcommittees' work and progress on their respective areas of focus: Domestic competitiveness, technologies, treaties and regulations, advocacy, and talent and workforce.

Public Participation: The meeting will be open to the public and the room is disabled-accessible. Public seating is limited and available on a first-come, first-served basis. Members of the public wishing to attend the meeting must notify Mr. Frank Caliva at the contact information above by 5 p.m. EDT on Friday, July 9, 2010, in order to pre-register for clearance into the building. Please specify any requests for reasonable accommodation at least five business days in advance of the meeting. Last minute requests will be accepted, but may be impossible to fill.

Any member of the public may submit pertinent written comments concerning the CINTAC's affairs at any time before and after the meeting. Comments may be submitted to the Civil Nuclear Trade Advisory Committee, Office of Energy & Environmental Industries, Room 4053, 1401 Constitution Ave., NW., Washington, DC 20230. To be considered during the meeting, comments must be received no later than 5 p.m. EDT on Friday, July 9, 2010, to ensure transmission to the Committee prior to the meeting. Comments received after that date will be distributed to the members but may not be considered at the meeting.

Copies of CINTAC meeting minutes will be available within 90 days of the meeting.

Dated: June 21, 2010.
Edward A. O'Malley,
Director, Office of Energy & Environmental Industries.

[FR Doc. 2010-15538 Filed 6-25-10; 8:45 am]

BILLING CODE 3510-DR-P